DEPARTMENT OF THE INTERIOR

Bureau of Land Management

Bureau of Reclamation

[NM-030-5101-ER-GO46]

Notice of Intent to Prepare an Environmental Impact Statement (EIS) for the Alamogordo Regional Water Supply Project, New Mexico

AGENCIES: Bureau of Land Management and Bureau of Reclamation, Interior.

ACTION: Notice of intent to prepare an EIS and notice of public scoping meetings.

SUMMARY: Pursuant to the National Environmental Policy Act (NEPA) of 1969, as amended, the Bureau of Land Management (BLM) and the Bureau of Reclamation (Reclamation) intend to prepare an EIS. The EIS will be analyzing the impacts associated with a proposal to develop a well field, construct a pipeline, and construct and operate a desalination water treatment facility in the Tularosa Basin, New Mexico (the Project). In addition, the EIS will present a discussion of significant environmental impacts and a comparison of reasonable alternatives. The BLM and Reclamation will serve as joint lead agencies and direct the preparation of the EIS by a third-party contractor funded by the City of Alamogordo, New Mexico.

DATES: Public scoping meetings will be held at the following times and locations:

October 5, 2004—6 to 8 p.m., Willie Estrada Civic Center, 800 East First Street, Alamogordo, New Mexico 88310.

October 6, 2004—6 to 8 p.m., Senior Center, 1055 Bookout Road, Tularosa, New Mexico 88352.

ADDRESSES: Public scoping meetings will be held in Alamogordo and Tularosa, New Mexico, in order to receive input from interested agencies, organizations, and individuals, and to present further information regarding the Project.

Scoping is an early and public process for determining the issues to be addressed, for identifying any significant issues and suggesting alternatives related to the proposed Federal action. The scoping period will be open from August 26, 2004 to October 25, 2004. When the draft EIS is complete, its availability will be announced in the Federal Register, in the local news media, and through direct contact with interested parties. Written comments regarding the scope and content of the EIS, as well as requests for information regarding the Project, should be forwarded to SWCA Environmental Consultants, Attention: Alamogordo Regional Water Supply Project, 7001 Prospect Place NE., Suite 100, Albuquerque, New Mexico 87110, or by electronic mail to almwater@swca.com.

Those not desiring to submit comments or suggestions at this time, but who would like to receive a copy of the draft EIS, should contact SWCA Environmental Consultants at the address provided above. Comments will be solicited on the draft document for a minimum of 45 days after the Environmental Protection Agency publishes a Notice of Availability of the Draft EIS in the Federal Register.

FOR FURTHER INFORMATION CONTACT: Philip Rhinehart, Bureau of Land Management, at (505) 525-4426 or Robert Maxwell, Bureau of Reclamation, at (505) 462-3597.

SUPPLEMENTARY INFORMATION: The purpose of this EIS is to evaluate the potential for significant environmental and socioeconomic impacts as a result of the Project, provide a decision-making tool that will compare and analyze project alternatives, serve as a public information document, and track and document the process used to reach decisions. The need for the Project is to secure a sustainable fresh water resource for use by the City of Alamogordo and the surrounding region, as the current water supply is not sufficient to meet both current and future water demands. The region that would be potentially affected by the Project includes an area within the boundary of the Tularosa Ground Water Basin, as declared by the State Engineer of New Mexico (the Basin).

The Project would provide a water supply to serve the region's needs by pumping ground water from the Hueco-Bolson aquifer, a large portion of which underlies the Tularosa Basin. The water within the aquifer and within the Basin is saline and would require treatment to meet drinking water standards. Saline water is defined as water that has a total dissolved solids (salts) concentration that is above drinking water standards. Estimates indicate that the volume of saline water stored within the Basin is enough to sustain a regional water supply to meet the region's present and future demands, if treated to meet drinking water standards. The Project is proposed to help serve the water supply needs of the Alamogordo region by continuing to ensure water conservation within the City, and by treating saline water from the Basin to meet drinking water standards.

Parameters to be evaluated in the EIS include (1) the location of project facilities, (2) desalination methodologies, (3) the effects of pumping water from the Hueco-Bolson aquifer, (4) the techniques used for concentrate disposal or beneficial re-use of concentrate that is a product of the desalination process, and (5) the consequences of not developing the Project.

Public Disclosure

Scoping comments, including names and addresses of respondents, will be available for public review. Individual respondents may request confidentiality. If you wish to withhold your name and address from public disclosure under the Freedom of Information Act, you must state this prominently at the beginning of your written comment. Such requests will be honored to the extent allowed by law. All submissions from organizations or businesses, and from individuals identifying themselves as representatives or officials of organizations or businesses, will be made available for public disclosure in their entirety.

Bureau of Reclamation.
Dated: July 2, 2004.
Rick L. Gold,
Regional Director—UC Region, Bureau of Land Management.
Dated: July 6, 2004.
Edwin L. Roberson,
Field Manager, Las Cruces.

[FR Doc. 04-19220 Filed 8-25-04; 8:45 am]

BILLING CODE 4310-VC-P